DEPARTMENT OF TRANSPORTATION

Federal Aviation Administration

14 CFR Part 71

[Docket No. FAA-2017-0954; Airspace Docket No. 17-AEA-16]

RIN 2120-AA66

Amendment of Class D and Class E Airspace; Beaver Falls, PA; and Zelienople, PA

AGENCY: Federal Aviation Administration (FAA), DOT.

ACTION: Final rule.

SUMMARY: This action amends Class E airspace extending upward from 700 feet or more above the surface at Beaver County Airport Beaver Falls, PA, as the University of Pittsburg Medical Center Beaver Valley Heliport has closed, and controlled airspace is no longer required. The geographic coordinates of the Ellwood City VOR/DME, (incorrectly identified as VORTAC), is amended in the associated Class E airspace. Also, the term Airport Facility Directory is replaced with Chart Supplement. This action also amends Class E airspace extending upward from 700 feet or more above the surface at Zelienople Municipal Airport (formerly Zelienople Airport), PA, by recognizing the airport's name change and updating the airport's geographic coordinates. Controlled airspace is necessary for the safety and management of instrument flight rules (IFR) operations at these airports.

DATES: Effective 0901 UTC, January 3, 2019. The Director of the Federal Register approves this incorporation by reference action under title 1, Code of Federal Regulations, part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, 1701 Columbia Ave., College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace at Beaver County Airport, Beaver Falls, PA, and Zelienople Municipal Airport, Zelienople, PA, to support IFR operations at these airports.

History

The FAA published a notice of proposed rulemaking in the Federal Register (83 FR 13708, March 30, 2018) for Docket No. FAA-2017-0954 to amend Class D airspace, Class E airspace designated as an extension to Class D or E surface area, and Class E airspace extending upward from 700 feet or more above the surface at Beaver County Airport, Beaver Falls, PA, and Zelienople Municipal Airport, Zelienople, PA.

Interested parties were invited to participate in this rulemaking effort by submitting written comments on the proposal to the FAA. No comments were received.

Subsequent to publication, the FAA found the navaid incorrectly listed as a VORTAC, instead of as a VOR/DME (VHF omnidirectional range/distance measuring equipment), and the navaid longitude coordinate was incorrect in the Beaver Falls, PA, designation, and is corrected in this rule.

Class D and E airspace designations are published in paragraph 5000, 6004, and 6005, respectively, of FAA Order 7400.11C dated August 13, 2018, and effective September 15, 2018, which is incorporated by reference in 14 CFR part 71.1. The Class D and E airspace designations listed in this document will be published subsequently in the Order.

Availability and Summary of Documents for Incorporation by Reference

This document proposes to amend FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This amendment to Title 14 Code of Federal Regulations (14 CFR) part 71 amends Class E airspace extending upward from 700 feet or more above the surface at Beaver Falls, PA, by removing University of Pittsburg Medical Center Beaver Valley Heliport, contained within the Beaver County Airport airspace description, as the heliport has closed.

The Ellwood City navaid name is corrected to VOR/DME from VORTAC. The geographic coordinates of the Ellwood City VOR/DME are amended in the associated Class E airspace to be in concert with the FAA's aeronautical database. Also, an editorial change is made to the associated Class E airspace legal descriptions replacing Airport Facility Directory with Chart Supplement. Controlled airspace is necessary for the safety and management of instrument flight rules (IFR) operations at these airports.

Additionally, the airport name is changed to Zelienople Municipal Airport, Zelienople, PA, from Zelienople Airport, and the geographic coordinates of this airport are adjusted to coincide with the FAA's aeronautical database.

Finally, the exclusionary language is removed from the airspace descriptions of both airports, as it is not needed to describe the boundaries.

Class D and E airspace designations are published in Paragraphs 5000, 6004, and 6005, respectively, of FAA Order 7400.11C, dated August 13, 2018, and effective September 15, 2018, which is incorporated by reference in 14 CFR 71.1. The Class E airspace designation listed in this document will be published subsequently in the Order.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11C, Airspace Designations and Reporting Points, dated August 13, 2018, effective September 15, 2018, is amended as follows:

Paragraph 5000 Class D Airspace.

* * * * *

AEA PA D Beaver Falls, PA [Amended]

Beaver County Airport, PA

(Lat. 40°46′21″ N, long. 80°23′29″ W)

That airspace extending upward from the surface to and including 3,800 feet MSL within a 3.9-mile radius of Beaver County Airport. This Class D airspace area is effective during the specific dates and times established in advance by a Notice to Airmen. The effective date and time will thereafter be continuously published in the Chart Supplement.

Paragraph 6004 Class E Airspace Designated as an Extension to Class D or E Surface Area.

* * * * *

AEA PA E4 Beaver Falls, PA [Amended]

Beaver County Airport, PA

(Lat. 40°46′21″ N, long. 80°23′29″ W)

Ellwood City VOR/DME

(Lat. 40°49′30″ N, long. 80°12′42″ W)

That airspace extending upward from the surface within 1.3 miles each side of the Ellwood City VOR/DME 248° radial extending from the 3.9-mile radius of Beaver County Airport to 1.3 miles west of the VOR/DME. This Class E airspace area is effective during the specific dates and times established in advance by a Notice to Airmen. The effective date and time will thereafter be continuously published in the Chart Supplement.

Paragraph 6005 Class E Airspace Areas Extending Upward from 700 feet or More Above the Surface of the Earth.

* * * * *

AEA PA E5 Beaver Falls, PA [Amended]

Beaver County Airport, PA

(Lat. 40°46′21″ N, long. 80°23′29″ W)

Ellwood City VOR/DME

(Lat. 40°49′30″ N, long. 80°12′42″ W)

That airspace extending upward from 700 feet above the surface within a 6.4-mile radius of Beaver County Airport, and within 1.8-miles each side of Ellwood City VOR/DME 248° radial extending from the 6.4-mile radius to the VOR/DME.

* * * * *

AEA PA E5 Zelienople, PA [Amended]

Zelienople Municipal Airport, PA

(Lat. 40°48′07″ N, long. 80°09′39″ W)

That airspace extending upward from 700 feet above the surface within a 6-mile radius of Zelienople Municipal Airport.

Issued in College Park, Georgia, on September 24, 2018.
Ryan W. Almasy,
Manager, Operations Support Group, Eastern Service Center, Air Traffic Organization.

[FR Doc. 2018-21305 Filed 10-1-18; 8:45 am]

BILLING CODE 4910-13-P